DEPARTMENT OF TRANSPORTATION

Federal Aviation Administration

14 CFR Part 39

[Docket No. FAA-2021-0657; Project Identifier MCAI-2021-00478-T; Amendment 39-21927; AD 2022-03-10]

RIN 2120-AA64

Airworthiness Directives; Airbus SAS Airplanes

AGENCY: Federal Aviation Administration (FAA), DOT.

ACTION: Final rule.

SUMMARY: The FAA is adopting a new airworthiness directive (AD) for certain Airbus SAS Model A350-941 and -1041 airplanes. This AD was prompted by a report indicating that during maintenance, a fuse pin retaining the main landing gear support structure (MLGSS) was found incorrectly engaged in the trunnion block and improperly secured with the associated retaining pin, due to incorrect installation during assembly. This AD requires inspecting the fuse pins and associated retaining pins of the MLGSS for such discrepancies, and corrective action if necessary, as specified in a European Union Aviation Safety Agency (EASA) AD, which is incorporated by reference. The FAA is issuing this AD to address the unsafe condition on these products.

DATES: This AD is effective March 17, 2022.

The Director of the Federal Register approved the incorporation by reference of a certain publication listed in this AD as of March 17, 2022.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2021-0657.

Examining the AD Docket

You may examine the AD docket at https://www.regulations.gov by searching for and locating Docket No. FAA-2021-0657; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th St., Des Moines, WA 98198; telephone and fax 206-231-3225; email nicholas.wilson@faa.gov.

SUPPLEMENTARY INFORMATION:

Background

EASA, which is the Technical Agent for the Member States of the European Union, has issued EASA AD 2021-0112, dated April 22, 2021 (EASA AD 2021-0112), to correct an unsafe condition for certain Airbus SAS Model A350-941 and -1041 airplanes.

The FAA issued a notice of proposed rulemaking (NPRM) to amend 14 CFR part 39 by adding an AD that would apply to certain Airbus SAS Model A350-941 and -1041 airplanes. The NPRM published in the Federal Register on August 12, 2021 (86 FR 44319). The NPRM was prompted by a report indicating that during maintenance, a fuse pin retaining the MLGSS was found incorrectly engaged in the trunnion block and improperly secured with the associated retaining pin; this was due to incorrect installation during assembly. The NPRM proposed to require inspecting the fuse pins and associated retaining pins of the MLGSS for such discrepancies, and corrective action if necessary, as specified in EASA AD 2021-0112.

The FAA is issuing this AD to address incorrect fuse pin installations, which could lead to premature failure of the retaining pin and subsequent fuse pin migration and disconnection, and could ultimately lead to main landing gear collapse and possible damage to the airplane. See the MCAI for additional background information.

Discussion of Final Airworthiness Directive

Comments

The FAA received comments from the Air Line Pilots Association, International (ALPA), who supported the NPRM without change.

The FAA received additional comments from Delta Air Lines (DAL). The following presents the comments received on the NPRM and the FAA's response to each comment.

Request To Define an Affected Part

DAL asked that the proposed AD include a statement that an “affected part” includes parts that are improperly engaged or incorrectly secured. DAL stated that the purpose of the inspection in EASA AD 2021-0112 is to inspect the affected parts for any discrepant conditions, in accordance with the instructions specified in Airbus Alert Operations Transmission (AOT) A57P016-21, dated April 1, 2021, which includes any incorrectly installed or missing trunnion block fuse pins for applicable Airbus SAS Model A350-941 and -1041 airplanes. DAL added that if, during accomplishment of this AOT, no discrepant conditions are found, then no further action is required. DAL noted that the MCAI's definition of “affected part” implies that the area will become an AD-related area for the rest of the life of the aircraft. Delta stated that it has added “AD affected no deviations” language to all AD-related aircraft maintenance manual (AMM) and illustrated parts catalog (IPC) areas. However, if there are no findings during the inspection, the area should revert back to a normal post-production non-AD area, and the language should not be added to the related AMM and IPC at every revision for the life of the aircraft.

The FAA does not agree with the commenter's request to refine the MCAI's definition of an affected part because this AD requires a one-time inspection only and that action is not effective for the life of the airplane. Correctly installed parts do not continue to be affected parts. Therefore, the FAA has not changed this AD in this regard.

Request To Clarify ICA Requirement

DAL asked that the proposed AD clarify that the instructions for continued airworthiness (ICAs) are required per Section E of the repair instructions specified in Airbus AOT A57P016-21, dated April 1, 2021. DAL stated that per the inspection instructions detailed in the AOT, if there is a discrepant condition found during accomplishment of the inspection, all operators are to follow the referenced repair instructions to replace all six fuse pins within the trunnion block of the MLGSS. DAL noted that after the repair is accomplished, the ICAs require again inspecting the trunnion block for damage and replacing all six fuse pins at 14,400 flight cycles or 60,000 flight hours (in contrast to the current life limit for the fuse pins of 36,000 flight cycles or 150,000 flight hours).

The FAA acknowledges the commenter's request to clarify whether the ICA requirements in Section E of the repair instructions are required by this AD. In certain circumstances, the NPRM proposed corrective actions that include repair instructions for Model A350-900 airplanes (R57V-40112) and Model A350-1000 airplanes (R57V-40113), as specified in RC (required for compliance) paragraph 4.2.3 of Airbus AOT A57P016-21, dated April 1, 2021. However, the NPRM, EASA AD 2021-0112, and AOT did not expressly state what revision level of the repair instructions are mandatory. ICA requirements were added to a later revision of the repair instructions. By not mandating a specific revision of the repair instructions, operators can use any revision level to satisfy the requirements of this AD. Whichever revision level an operator chooses, the operator must use that revision level in its entirety. The FAA encourages affected operators to utilize the most current ICA for their respective aircraft condition. No changes have been made to this AD in this regard.

Conclusion

The FAA reviewed the relevant data, considered the comments received, and determined that air safety requires adopting this AD as proposed. Except for minor editorial changes, this AD is adopted as proposed in the NPRM. None of the changes will increase the economic burden on any operator. Accordingly, the FAA is issuing this AD to address the unsafe condition on these products.

Related Service Information Under 1 CFR Part 51

EASA AD 2021-0112 describes procedures for a detailed inspection for discrepancies (missing or migrated fuse pins, and fuse pins improperly secured with the associated retaining pin) in the left- and right-hand sides of the MLGSS trunnion block. The service information also describes procedures for corrective action (including replacement of discrepant fuse pins and the main landing gear forward pintle assembly). This material is reasonably available because the interested parties have access to it through their normal course of business or by the means identified in the ADDRESSES section.

Costs of Compliance

The FAA estimates that this AD affects 17 airplanes of U.S. registry. The FAA estimates the following costs to comply with this AD:

Estimated Costs for Required Actions
Labor cost | Parts cost | Cost per product | Cost on U.S. operators
1 work-hour × $85 per hour = $85 | $0 | $85 | $1,445

The FAA estimates the following costs to do any necessary on-condition actions that would be required based on the results of any required actions. The FAA has no way of determining the number of aircraft that might need these on-condition actions:

Estimated Costs of On-Condition Actions
Labor cost | Parts cost | Cost per product
Up to 30 work-hours × $85 per hour = Up to $2,550 | Up to $4,410 | Up to $6,960.

According to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-03-10 Airbus SAS: Amendment 39-21927; Docket No. FAA-2021-0657; Project Identifier MCAI-2021-00478-T.

(a) Effective Date

This airworthiness directive (AD) is effective March 17, 2022.

(b) Affected ADs

None.

(c) Applicability

This AD applies to Airbus SAS Model A350-941 and -1041 airplanes, certificated in any category, as identified in European Union Aviation Safety Agency (EASA) AD 2021-0112, dated April 22, 2021 (EASA AD 2021-0112).

(d) Subject

Air Transport Association (ATA) of America Code 57, Wings.

(e) Reason

This AD was prompted by a report indicating that during maintenance, a fuse pin retaining the main landing gear support structure (MLGSS) was found incorrectly engaged in the trunnion block and improperly secured with the associated retaining pin, due to incorrect installation during assembly. The FAA is issuing this AD to address incorrect fuse pin installations, which could lead to premature failure of the retaining pin and subsequent fuse pin migration and disconnection, and could ultimately lead to main landing gear collapse and possible damage to the airplane.

(f) Compliance

Comply with this AD within the compliance times specified, unless already done.

(g) Requirements

Except as specified in paragraph (h) of this AD: Comply with all required actions and compliance times specified in, and in accordance with, EASA AD 2021-0112.

(h) Exceptions to EASA AD 2021-0112

(1) Where EASA AD 2021-0112 refers to its effective date, this AD requires using the effective date of this AD.

(2) Where paragraph (3) of EASA AD 2021-0112 specifies contacting Airbus for approved instructions for corrective actions for certain conditions, those corrective actions must be done using a method approved in accordance with the procedures specified in paragraph (j)(2) of this AD.

(3) The “Remarks” section of EASA AD 2021-0112 does not apply to this AD.

(i) No Reporting Requirement

Although the service information referenced in EASA AD 2021-0112 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Dan Rodina, Aerospace Engineer, Large Aircraft Section, International Validation Branch, FAA, 2200 South 216th St., Des Moines, WA 98198; telephone and fax 206-231-3225; email nicholas.wilson@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0112, dated April 22, 2021.

(ii) [Reserved]

(3) For EASA AD 2021-0112, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on January 21, 2022.
Lance T. Gant,
Director, Compliance & Airworthiness Division, Aircraft Certification Service.

[FR Doc. 2022-02756 Filed 2-9-22; 8:45 am]

BILLING CODE 4910-13-P